DEPARTMENT OF COMMERCE

National Oceanic and Atmospheric Administration

RIN 0648-XF338

Mid-Atlantic Fishery Management Council (MAFMC); Public Meeting

AGENCY: National Marine Fisheries Service (NMFS), National Oceanic and Atmospheric Administration (NOAA), Commerce.

ACTION: Notice; public hearings and comment period.

SUMMARY: The Mid-Atlantic Fishery Management Council will hold nine public hearings in April and May 2017 to solicit public input on an amendment to the Atlantic Mackerel, Squid, and Butterfish Fishery Management Plan. The amendment focuses on the plan's longfin squid and Illex squid fisheries. The Council is also soliciting written comments on the amendment through May 18, 2017.

DATES: The public hearings will be held between April 24, 2017 and May 11, 2017. The dates and times of each hearing are listed in SUPPLEMENTARY INFORMATION. The comment period closes 11:59 p.m. on May 18, 2017.

ADDRESSES: See SUPPLEMENTARY INFORMATION for locations of the hearings.

Council address: Mid-Atlantic Fishery Management Council, 800 N. State Street, Suite 201, Dover, DE 19901; telephone: (302) 674-2331; Web site: www.mafmc.org.

FOR FURTHER INFORMATION CONTACT: Christopher M. Moore, Ph.D., Executive Director, Mid-Atlantic Fishery Management Council, telephone: (302) 526-5255.

SUPPLEMENTARY INFORMATION: The Council will hold nine public hearings:

1. April 24, 2017, 5-7 p.m.: The Greater Ocean City Chamber of Commerce, 12320 Ocean Gateway, Ocean City, MD 21842, phone: (410) 213-0144.

2. April 25, 2017, 5-7 p.m.: Holiday Inn by the Bay, 88 Spring St., Portland, ME 04101, phone: (207) 775-2311.

3. April 26, 2017, 5-7 p.m.: Massachusetts Division of Marine Fisheries, Annisquam River Marine Fisheries Station, 30 Emerson Ave., Gloucester, MA 01930, phone: (978) 282-0308.

4. May 2, 2017, 5-7 p.m.: Congress Hall, 200 Congress Place, Cape May, NJ 08204, phone: (609) 884-8421.

5. May 3, 2017, 5-7 p.m.: DoubleTree by Hilton Tinton Falls, 700 Hope Road, Tinton Falls, NJ 07724, phone: (732) 544-9300.

6. May 4, 2017, 6-8 p.m.: Webinar, http://mafmc.adobeconnect.com/squid2017/ phone: (800) 832-0736, Rm: *7833942#. A listening station will be available at Virginia Marine Resources Commission, 2600 Washington Avenue, 3rd Floor, Newport News, VA 23607, phone: (757) 247- 2200.

7. May 8, 2017, 5-8 p.m.: University of Rhode Island, Corless Auditorium, Watkins Building, 218 Ferry Rd., Narragansett, RI 401-874-6222.

8. May 9, 2017, 4:30-7 p.m.: Doubletree by Hilton Cape Cod—Hyannis, 287 Iyannough Rd., Hyannis, MA 02601, 508-771-1700.

9. May 11, 2017, 5-7 p.m.: Hyatt Place Long Island/East End, 431 East Main St., Riverhead, NY 11901, 631-208-0002.

Addresses for written comments: Written comments may be sent through mail, email, fax, or online through 11:59 p.m. on Thursday, May 18, 2017.

—Mail to Dr. Chris Moore, Executive Director, Mid-Atlantic Fishery Management Council, 800 North State Street, Suite 201, Dover, DE 19901 (please write “Squid Amendment Comments” on the outside of the envelope);

—Fax to Dr. Chris Moore, Executive Director, Mid-Atlantic Fishery Management Council at 302-674-5399 (please include “Squid Amendment Comments” in the subject line);

—Email to squid@mafmc.org;

—Online at http://www.mafmc.org/comments/squid-amendment-public-comments.

The purpose of the meetings and comment period is gather input from the public on the alternatives in the amendment. The objectives of this action are to:

A. Consider the appropriate number of vessels in the directed longfin squid and Illex squid fisheries and design appropriate management measures for permitted vessels. The Council is considering this action because there is considerable latent effort in both fisheries—a relatively small portion of vessels with limited access (“moratorium”) squid permits account for the majority of landings in most years. The Council is concerned that activation of latent permits in the squid fisheries could lead to excessive fishing effort (shortening seasons) on these semeparous, sub-annual species, and increased catch of non-target species.

B. Re-evaluate the management of longfin squid in Trimester 2. The Council is considering this action because the productivity of the longfin squid stock may be negatively impacted if excessive fishing effort in T2, which occurs on the inshore spawning grounds, does not allow sufficient spawning and/or hatching from egg mops. Additional information and relevant background documents are available on the Council's Web site at http://www.mafmc.org/actions/squid-capacity-amendment. The public hearing document, which describes and analyzes the alternatives, will be posted there by April 18, 2017.

Special Accommodations

These meetings are physically accessible to people with disabilities. Requests for sign language interpretation or other auxiliary aid should be directed to M. Jan Saunders, (302) 526-5251, at least 5 days prior to any meeting date.

Dated: April 3, 2017.
Tracey L. Thompson,
Acting Deputy Director, Office of Sustainable Fisheries, National Marine Fisheries Service.

[FR Doc. 2017-06807 Filed 4-5-17; 8:45 am]

BILLING CODE 3510-22-P